COMMISSION ON CIVIL RIGHTS

Sunshine Act Notice

AGENCY: U.S. Commission on Civil Rights.

Date and Time: Friday, July 16, 2004, 9:30 a.m.

Place: U.S. Commission on Civil Rights, 624 Ninth Street, NW., Rm. 540, Washington, DC 20425.

Status:

Agenda

I. Approval of Agenda.

II. Approval of Minutes of April 9, 2004, meeting.

III. Announcements.

IV. Staff Director's Report.

V. “Ten Year Check-Up: Have Federal Agencies Responded to Civil Rights Recommendations? Volume IV: An Evaluation of the Departments of Education, Health and Human Services, and Housing and Urban Development, and the Equal Employment Opportunity Commission” Report.

VI. “Broken Promises: Evaluating the Native America Health Care System”.

VII. “Toward Equal Access: Eliminating Language Barriers from Federal Programs” Report.

VIII. “Funding Federal Civil Rights Enforcement: 2005” Report.

IX. “Closing the Achievement Gap: The Impact of standards-Based Education Reform on Student Performance” Report.

X. State Advisory Committee Report: “City Services and the Justice System: Do Korean American Storeowners in Baltimore, Maryland, Get Equal Treatment?” (Maryland).

XI. Closed Meeting on Personnel Matters.

XII. Future Agenda items.

11 a.m.—Briefing on Voting and Election Reform—Is America Ready to Vote?: Voting Integrity, Accessibility, and Security (Thursday, July 15, 2004).

FOR FURTHER INFORMATION CONTACT: Les Jin, Press and Communications (202) 376-7700.

Debra A. Carr,
Deputy General Counsel.

[FR Doc. 04-15727 Filed 7-7-04; 1:06 pm]

BILLING CODE 6335-01-M